ENVIRONMENTAL PROTECTION AGENCY

[EPA-HQ-OPPT-2020-0262; FRL-12436-01-OMS]

Agency Information Collection Activities; Submission to the Office of Management and Budget for Review and Approval; Comment Request; Reporting and Recordkeeping for Asbestos Abatement Worker Protection (Renewal)

AGENCY: Environmental Protection Agency (EPA).

ACTION: Notice.

SUMMARY: The Environmental Protection Agency (EPA) has submitted an information collection request (ICR), Reporting and Recordkeeping for Asbestos Worker Protection, (EPA ICR Number 1246.15, OMB Control Number 2070-0072) to the Office of Management and Budget (OMB) for review and approval in accordance with the Paperwork Reduction Act. This is a proposed extension of the ICR, which is currently approved through January 31, 2025. Public comments were previously requested via the Federal Register on April 23, 2024 during a 60-day comment period. This notice allows for an additional 30 days for public comments.

DATES: Comments may be submitted on or before January 10, 2025.

ADDRESSES: Submit your comments, referencing Docket ID number EPA-HQ-OPPT-2020-0262, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1204; email address: Sleasman.katherine@epa.gov.

SUPPLEMENTARY INFORMATION: This is a proposed extension of the ICR, which is currently approved through January 31, 2025. An agency may not conduct or sponsor and a person is not required to respond to a collection of information unless it displays a currently valid OMB control number.

Public comments were previously requested via the Federal Register on April 23, 2024, during a 60-day comment period (89 FR 30358). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers reporting and recordkeeping requirements associated with EPA's workplace standards for the protection of state and local government employees who work with asbestos and who are not covered by a state plan approved by the Occupational Safety and Health Administration. Currently, some 23 states and state equivalent territories have reporting and recordkeeping requirements under the Toxic Substances Control Act, Section 8, documenting worker protection actions for state and local government employees involved in asbestos work. EPA's asbestos work protection regulations incorporate, by reference, the OSHA Construction Industry Standard for Asbestos, and the General Industry Standard for Asbestos. EPA does not collect any information under this collection. All information subject to this collection request is to be gathered and maintained by the employer.

Form number(s): None.

Respondents/affected entities: Public Administration, Educational Services. North American Industrial Classification System (NAICS) codes identified in question 12 of the ICR.

Respondent's obligation to respond: Mandatory. (15 U.S.C 2605, 2607(a)).

Estimated number of respondents: 34,138 (total).

Frequency of response: On occasion.

Total estimated burden: 358,049 hours (per year). Burden is defined at 5 CFR 1320.3(b).

Total estimated cost: $21,175,968 (per year), which includes $0 annualized capital or operation & maintenance costs.

Changes in the estimates: There is a decrease of 14,920 hours in the total estimated respondent burden compared with the ICR currently approved by OMB. This change, which is discussed in more detail in the ICR, reflects a decrease in the number of states subject to the rule. This change is an adjustment.

Courtney Kerwin,
Director, Information Engagement Division.

[FR Doc. 2024-29065 Filed 12-10-24; 8:45 am]

BILLING CODE 6560-50-P